DEPARTMENT OF COMMERCE

Census Bureau

Proposed Information Collection; Comment Request; Federal Statistical System Public Opinion Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 27, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jennifer Hunter Childs, Jennifer.hunter.childs@census.gov 202-603-4827, U.S. Census Bureau, Center for Survey Measurement, 4600 Silver Hill Road, Washington, DC 20233.

SUPPLEMENTARY INFORMATION:

I. Abstract

From December 2009 through April 2010, the Census Bureau contracted the Gallup Organization to conduct a nightly poll of the public's opinion toward the 2010 Census, public awareness of Census promotional efforts, and intent to mail back their Census forms. The nationally representative, probability-based, sample of 200 respondents per night, sampled from RDD and cell frames, estimates, based on aggregating these data over week-long time periods provided nearly immediate feedback on public reaction to national events that could possibly influence response to the 2010 Census, and on the success or failure of our communications campaign messaging.

The Census Bureau used this feedback to make communication campaign decisions during data collection that contributed to achieving a mail-back participation rate of 74%, despite increased vacancy rates due to the economic downturn, increased public skepticism about the role of the Federal Government, and a general decline in survey response rates during the decade that crossed both public and private sector surveys.

From February 2012 through March 2014, the Gallup Organization conducted the Federal Statistical System (FSS) Public Opinion Survey conducted under a contract with the U.S. Census Bureau. The mission critical objective was to track public opinion toward statistics produced by the Federal Government. During this time, we saw a relatively stable level of trust in Federal statistics until several events became headlines in the news, including scandals involving the IRS and NSA and then the Government shutdown of 2013. As these events progressed, we saw a downturn in trust in Federal statistics, which also happened to correlate with a decrease in response rates to several Census Bureau surveys. Without being able to determine causal factors, we are interested in pursuing further data collection to try to understand these possible causal relationships. To date, the data have been gathered nightly from small (n = 200) independent cross-section samples of individuals participating in a general multi-topic Random Digit Dial (RDD) telephone survey. We collected 200 cases per night, leading up to 1,400 cases per week and 6,000 cases per month, etc. The nightly sample data was aggregated over weeks or months to examine trends in attitudes towards the FSS. The cross-sectional design offered the opportunity to examine large marginal shifts in attitudes on a daily basis. The cross-sectional design precluded examination of small daily marginal changes in attitudes, as well as any change at the individual level. The design also limited our ability to relate events in the news, such as the IRS and NSA stories, to shifts in opinion toward Federal statistics.

The objective of the planned study is to conduct a nationally representative sample survey of public opinion, primarily on attitudes toward the FSS and the use of Federal statistics. The collected data will be used to track changes in attitudes towards the FSS and in data use. The data will also enable the Census Bureau to assess how news events related to the statistical system or government and public perceptions of these events affects usage of and attitudes towards Federal statistics. The methodology for the planned survey is very similar to the recently conducted FSS Public Opinion Survey, however with a smaller weekly sample with additional questions that will allow us to examine possible causal factors over time. The smaller sample size makes this data collection cheaper, and thus possible to continue this survey for a longer period of time.

II. Method of Collection

The Census Bureau plans to add a minimum of 7 and up to 25 questions at a time to a sample of cases in the Gallup Daily Tracking, which is an ongoing daily survey asking U.S. adults about various political, economic, and well-being topics. The initial 7 questions will allow us to continue the time series began under the previous study and to add open-ended questions which will allow us to measure change in the basis of attitudes. The additional questions will allow us to investigate other issues that could be related to trust and other perceptions of the FSS.

The survey methodology for the planned collection is the same as the past collection. It includes sample coverage in Alaska and Hawaii, and relies on a three-call design to reach respondents not contacted on the initial attempt. The survey methods for the Gallup Daily Tracking rely on live interviews, dual-frame sampling (which includes listed landline interviewing as well as cell phone sampling to reach those in cell phone-only households, cell phone-mostly households, and unlisted landline-only households), and a random selection method for choosing respondents within the household. The Census Bureau will ask questions of 850 respondents a week who participate in the Gallup Daily Tracking from March 1, 2015 through October 31, 2019.

III. Data

OMB Control Number: 0607-0969.

Form Number: None.

Type of Review: Regular submission.

Affected Public: Individuals.

Estimated Number of Respondents: 44,200.

Estimated Time per Response: 10 minutes.

Estimated Total Annual Burden Hours: 7,367.

Estimated Total Annual Cost to Public: $0.

Respondent's Obligation: Voluntary.

Legal Authority: Title 13 U.S.C. Chapter 5.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 22, 2014.
Glenna Mickelson,
Management Analyst, Office of the Chief Information Officer.

[FR Doc. 2014-20418 Filed 8-27-14; 8:45 am]

BILLING CODE 3510-07-P